DEPARTMENT OF HOUSING AND URBAN DEVELOPMENT

[Docket No. FR-7097-N-02; OMB Control No.: 2503-0034]

60-Day Notice of Proposed Information Collection: Ginnie Mae Digital Collateral Program

AGENCY: Government National Mortgage Association (Ginnie Mae), HUD.

ACTION: Notice.

SUMMARY: HUD is seeking approval from the Office of Management and Budget (OMB) for the information collection described below. In accordance with the Paperwork Reduction Act, HUD is requesting comments from all interested parties on the proposed collection of information. The purpose of this notice is to allow for 60 days of public comment.

DATES: Comments Due Date: April 20, 2026

ADDRESSES: Interested persons are invited to submit comments regarding this proposal.

Written comments and recommendations for the proposed information collection can be sent within 60 days of publication of this notice to www.regulations.gov. Find this particular information collection by selecting “Currently under 60-day Review—Open for Public Comments” or by using the search function, and Interested persons are also invited to submit comments regarding this proposal and comments should refer to the proposal by name and/or OMB Control Number and should be sent to: John Amberg, Senior Program Development Specialist, HUD Region VIII, 1670 Broadway, 25th floor Denver, CO 80202; telephone (303) 672-5027, (this is not a toll-free number) or email at john.w.amberg@hud.gov for a copy of the proposed forms or other available information.

FOR FURTHER INFORMATION CONTACT: John Amberg, Government National Mortgage Association Department of Housing and Urban Development HUD Region VIII, 1670 Broadway, 25th floor Denver, CO 80202; telephone 303-672-5027, (this is not a toll-free number). HUD welcomes and is prepared to receive calls from individuals who are deaf or hard of hearing, as well as individuals with speech and communication disabilities. To learn more about how to make an accessible telephone call, please visit https://www.fcc.gov/consumers/guides/telecommunications-relay-service-trs.

Copies of available documents submitted to OMB may be obtained from Mr. Amberg.

SUPPLEMENTARY INFORMATION: This notice informs the public that HUD is seeking approval from OMB for the information collection described in Section A.

A. Overview of Information Collection

Title of Information Collection: Ginnie Mae Digital Collateral Program (e-collection).

OMB Approval Number: 2503-0034.

Type of request: Renewal of a currently approved collection.

Form Number: HUD-11701A; HUD- 11701B; HUD-11708SI.

Description of the need for the information and proposed use:

Adapting to the needs of the industry, Ginnie Mae is permitting the securitization of mortgage loans where the note is an eligible eNote. The forms listed above are necessary due to the unique requirements of managing eNotes and eMortgages. This collection permits Ginnie Mae to verify: (1) that eIssuers and eMortgages have the specialized knowledge and experience to participate; (2) that eIssuers and eCustodians have the technological capability to service eMortgages and safeguard eMortgage documents; (3) the name and location of the entities responsible for the various Ginnie Mae accounts and eMortgage documents, and (4) those entities that are responsible for servicing the eMortgages that back the Ginnie Mae pools. Ginnie Mae needs this information to mitigate risk and evaluate its business operations, procedures and programs, and assist lenders in processing borrower requests more efficiently. Ginnie Mae also requires the collection of information to ensure that there are no deficiencies, which could affect the pass-through of securities to its investors.

Information collection | Number of respondents | Frequency of response | Responses per annum | Burden hour per response | Annual burden hours annual | Hourly cost per response | Cost
eIssuer Application (HUD-11701A) | 20 | 1 | 20 | .5 | 10 | $45 | $450
eCustodian Application (HUD-11701B) | 5 | 1 | 5 | .5 | 2.5 | 45 | 112.5
Request for Release of Secured Party (HUD-11808SI) | Est. Volume, 300 | 1 | 300 | .05 | 15 | 45 | 675
Total | Varies | 1 | 325 | Varies | 27.5 | 45 | 1237.5

B. Solicitation of Public Comment

This notice is soliciting comments from members of the public and affected parties concerning the collection of information described in Section A on the following:

(1) Whether the proposed collection of information is necessary for the proper performance of the functions of the agency, including whether the information will have practical utility.

(2) The accuracy of the agency's estimate of the burden of the proposed collection of information.

(3) Ways to enhance the quality, utility, and clarity of the information to be collected; and

(4) Ways to minimize the burden of the collection of information on those who are to respond, including through the use of appropriate automated collection techniques or other forms of information technology, e.g., permitting electronic submission of responses.

HUD encourages interested parties to submit comments in response to these questions.

C. Authority

Section 2 of the Paperwork Reduction Act of 1995, 44 U.S.C. 3507.

Joseph M. Gormley,
President Ginnie Mae.

[FR Doc. 2026-03161 Filed 2-17-26; 8:45 am]

BILLING CODE 4210-67-P